COMMISSION ON CIVIL RIGHTS

Sunshine Act Notice

AGENCY: United States Commission on Civil Rights.

ACTION: Notice of meeting.

DATE AND TIME: Friday, April 8, 2011; 9:30 a.m. EDT.

PLACE: 624 Ninth Street, NW., Room 540, Washington, DC 20425.

Meeting Agenda

This meeting is open to the public.

Portions of this meeting may be held in closed session.

I. Approval of Agenda

II. Management and Operations:

• Staff Director's report

III. Ethics Officer Presentation

IV. Program Planning:

• Update on Inter-student Violence Report

V. State Advisory Committee Issues:

• Re-chartering the Illinois SAC

• Re-chartering the Minnesota SAC

• Re-chartering the Alabama SAC

VI. Approval of March 11, 2011 Meeting Minutes

VII. Announcements

VIII. Adjourn

CONTACT PERSON FOR FURTHER INFORMATION: Lenore Ostrowsky, Acting Chief, Public Affairs Unit (202) 376-8591. Hearing-impaired persons who will attend the meeting and require the services of a sign language interpreter should contact Pamela Dunston at (202) 376-8105 or at signlanguage@usccr.gov at least three business days before the scheduled date of the meeting.

Dated: March 29, 2011.
Kimberly A. Tolhurst,
Senior Attorney-Advisor.

[FR Doc. 2011-7765 Filed 3-29-11; 4:15 pm]

BILLING CODE 6335-01-P